DEPARTMENT OF THE INTERIOR

National Park Service

Concession Contracts; Extension

AGENCY: National Park Service, Interior.

ACTION: Public notice.

SUMMARY: Pursuant to 36 CFR 51.23, public notice is hereby given that the National Park Service proposes to extend the following expired concession contracts for a period of up to one year, or until such time as new contracts are executed, whichever occurs sooner.

SUPPLEMENTARY INFORMATION: All of the listed concession authorizations expired by their terms on December 31, 2003. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Concid ID No. | Concessioner name | Park
GATE012-94 | HS Concessions | Gateway National Recreation Area.
COLO005-95 | Eastern National | Various Parks, Northeast Region.
NERO001-97 | Eastern National | Various Parks, Northeast Region.

DATES: Effective January 2, 2004.

FOR FURTHER INFORMATION CONTACT: Concession Program Manager, National Park Service, Washington, DC 20240, Telephone 202/513-7156.

Dated: July 20, 2004.
Jim Poole,
Acting Associate Director, Administration, Business Practices and Workforce Development.

[FR Doc. 04-20640 Filed 9-13-04; 8:45 am]

BILLING CODE 4312-53-M